NUCLEAR REGULATORY COMMISSION

[NRC-2015-0136]

Information Collection: NRC Generic Letter 2016-XX, Monitoring of Neutron-Absorbing Materials in Spent Fuel Pools

AGENCY: Nuclear Regulatory Commission.

ACTION: Notice of submission to the Office of Management and Budget; request for comment.

SUMMARY: The U.S. Nuclear Regulatory Commission (NRC) has recently submitted a proposed collection of information to the Office of Management and Budget (OMB) for review. The information collection is entitled, “NRC Generic Letter 2016-XX, Monitoring of Neutron-Absorbing Materials in Spent Fuel Pools.”

DATES: Submit comments by January 29, 2016.

ADDRESSES: Submit comments directly to the OMB reviewer at: Vlad Dorjets, Desk Officer, Office of Information and Regulatory Affairs (3150-XXXX), NEOB-10202, Office of Management and Budget, Washington, DC 20503; telephone: 202-395-7315, email: oira_submission@omb.eop.gov.

FOR FURTHER INFORMATION CONTACT: Tremaine Donnell, NRC Clearance Officer, U.S. Nuclear Regulatory Commission, Washington, DC 20555-0001; telephone: 301-415-6258; email: INFOCOLLECTS.Resource@nrc.gov.

SUPPLEMENTARY INFORMATION:

I. Obtaining Information and Submitting Comments

A. Obtaining Information

Please refer to Docket ID NRC-2015-0136 when contacting the NRC about the availability of information for this action. You may obtain publicly-available information related to this action by any of the following methods:

• Federal rulemaking Web site: Go to http://www.regulations.gov and search for Docket ID: NRC-2015-0136.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The proposed information collection and the supporting statement are available in ADAMS under Accession Nos. ML15224A005 and ML15268A549, respectively.

• NRC's PDR: You may examine and purchase copies of public documents at the NRC's PDR, Room O1-F21, One White Flint North, 11555 Rockville Pike, Rockville, Maryland 20852.

• NRC's Clearance Officer: A copy of the collection of information and related instructions may be obtained without charge by contacting the NRC's Clearance Officer, Tremaine Donnell, Office of Information Services, U.S. Nuclear Regulatory Commission, Washington, DC 20555-0001; telephone: 301-415-6258; email: INFOCOLLECTS.Resource@NRC.GOV.

B. Submitting Comments

The NRC cautions you not to include identifying or contact information in comment submissions that you do not want to be publicly disclosed in your comment submission. All comment submissions are posted at http://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. Chapter 35), the NRC recently submitted a proposed collection of information to OMB for review entitled, “NRC Generic Letter 2016-XX, Monitoring of Neutron-Absorbing Materials in Spent Fuel Pools.” The NRC hereby informs potential respondents that an agency may not conduct or sponsor, and that a person is not required to respond to, a collection of information, unless it displays a currently valid OMB control number.

The draft generic letter was published for public comment on March 11, 2014 (79 FR 13685), but without an express request for public comment on the proposed information collection as required by the Office of Management and Budget. Therefore, the NRC published a Federal Register notice with a 60-day comment period on these proposed information collection in the draft generic letter on June 4, 2015 (80 FR 31930).

1. The title of the information collection: NRC Generic Letter 2016-XX, Monitoring of Neutron-Absorbing Materials in Spent Fuel Pools.

2. OMB approval number: An OMB control number has not yet been assigned to this proposed information collection.

3. Type of submission: New.

4. The form number if applicable: Not applicable.

5. How often the collection is required or requested: One-time.

6. Who will be required or asked to respond: All nuclear power reactors with a license issued under Title 10 of the Code of Federal Regulations (10 CFR) part 50, “Domestic Licensing of Production and Utilization Facilities,” except those that have permanently ceased operations with all reactor fuel removed from on-site spent fuel pool storage; all holders of an operating license for a non-power reactor (research reactor, test reactor, or critical assembly) under 10 CFR part 50 who have a reactor pool, fuel storage pool, or other wet locations designed for the purpose of fuel storage, except those who have permanently ceased operations with all reactor fuel removed from on-site wet storage.

7. The estimated number of annual responses: 112.

8. The estimated number of annual respondents: 112.

9. An estimate of the total number of hours needed annually to comply with the information collection requirement or request: 12,900 hours.

10. Abstract: Neutron-absorbing materials installed in the spent fuel pool that are credited for maintaining subcriticality must be able to perform their neutron-absorbing safety function during both normal operating conditions and design basis events. Monitoring of neutron-absorbing materials is intended to identify when degradation may affect the ability to perform the neutron-absorbing safety function, so that appropriate corrective action can be taken. The NRC is requesting information to determine if (1) addressees have adequate neutron-absorbing material monitoring programs in place to ensure compliance with the regulations, and (2) the agency should take additional regulatory action. The Atomic Energy Act of 1954, as amended (AEA) requires that licensees provide reasonable assurance of adequate protection to public health and safety. NRC verification of compliance with the NRC's regulations and license conditions with respect to spent fuel pool neutron absorbers provides reasonable assurance of such adequate protection with respect to those neutron absorbers. The NRC has authority to collect this type of information pursuant to Sections 161 and 182 of the AEA, and 10 CFR 50.54(f), to enable the NRC to determine if the license to operate a nuclear facility needs to be modified, revoked, or suspended. The NRC uses the information collected to verify that licensees meet the NRC regulations and requirements of their license.

Dated at Rockville, Maryland, this 22nd day of December, 2015.
For the Nuclear Regulatory Commission.
Tremaine Donnell,
NRC Clearance Officer, Office of Information Services.

[FR Doc. 2015-32836 Filed 12-29-15; 8:45 am]

BILLING CODE 7590-01-P